NATIONAL FOUNDATION ON THE ARTS AND HUMANITIES

Museum Grants for African History and Culture program guidelines, Submission for OMB Review, Comment Request

AGENCY: Institute of Museum and Library Services.

ACTION: Submission to OMB for Review, Comment Request.

SUMMARY: The Institute of Museum and Library Services announces the following information collection has been submitted to the Office of Management and Budget for review and approval in accordance with the Paperwork Reduction Act of 1995 (Pub. L. 104-13, 44 U.S.C. Chapter 35). A copy of this proposed form, with applicable supporting documentation, may be obtained by calling the Institute of Museum and Library Services. Director of Research and Technology, Rebecca Danvers at (202) 652-4680. IMLS seek OMB clearance for program guidelines for applications to the Museum Grants for African American History and Culture.

DATES: Comments must be received by May 18, 2006. The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

ADDRESSES: For a copy of the form contact: Rebecca Danvers, Director of Research and Technology, Institute of Museum and Library Services, 1800 M St., NW, 9th floor, Washington, DC 20036, telephone 202-653-4680, fax 202-653-4625, e-mail rdanvers@imls.gov.

SUPPLEMENTARY INFORMATION:

Background

The Institute of Museum and Library Services is an independent Federal grant-making agency authorized by the Museum and Library Services Act, Public Law 104-208, as amended. The IMLS provides a variety of grant programs to assist the nation's museums and libraries in improving their operations and enhancing their services to the public. Museums and libraries of all sizes and types may receive support from IMLS programs.

The Museum and Library Services Act, 20 U.S.C. Section 9101, et seq. authorizes the Director of the Institute of Museum and Library Services to make grants to museums and other entities as the Director considers appropriate. In addition, the National Museum of African American History and Culture Act (the “Act”) authorizes the Director of the Institute of Museum and Library Services to establish grant and scholarship programs to improve operations, care of collections, and development of professional management of African American museums throughout the country, and to establish grant programs with the purpose of providing internship and fellowship opportunities at African American Museums. See, generally, 20 U.S.C. Section 80r-5(b). The Institute's new Program is developed pursuant to the provisions of this Act.

I. The National Museum of African American History and Culture Act Authorizes the Institute To Develop, Among Other Things, the Following

(A) A grant program with the purpose of improving operations, care of collections, and development of professional management at African American museums;

(B) A grant program with the purpose of providing internship and fellowship opportunities at African American museums. 20 U.S.C. 80r-5(b). Pursuant to this authority, IMLS proposes the program of grants to support and enhance African American museums throughout the country.

IMLS received comments that the program guidelines support the current needs of the African American museum community and also reflect the needs of museums generally. IMLS was urged to monitor the program's implementation to measure systematic change and to consider the program as a test bed to develop approaches appropriate to improving operations within other museum communities. IMLS agrees that the program has the potential to effect systematic change and will plan effective monitoring and evaluation strategies.

IMLS received questions about the eligibility criteria. IMLS has revised the criteria to clarify eligibility status.

The need for technical assistance, particularly for the smaller museums, was noted. IMLS agrees and will extend to this program the types of technical assistance provided to potential applicants in other IMLS programs.

II. Current Actions

To administer this program of grants, IMLS must develop application guidelines.

Agency: Institute of Museum and Library Services.

Title: Museum Grants for African American History and Culture Program Guidelines.

OMB Number: None.

Agency Number: 3137.

Frequency: Annually.

Affected Public: Museums.

Number of Respondents: 50.

Estimated Time per Respondent: 35 hours.

Total Burden Hours: 750.

Total Annualized capital/startup costs: $0.

Total Annual Costs: $32,900.

Contact: Comments should be sent to Office of Information and Regulatory Affairs, Attn.: OMB Desk Officer for Education, Office of Management and Budget, Room 10235, Washington, DC 20503 (202) 395-7316.

Dated: April 12, 2006.
Rebecca Danvers,
Director Research and Technology.

[FR Doc. 06-3653 Filed 4-17-06; 8:45 am]

BILLING CODE 7036-01-M